DEPARTMENT OF ENERGY

Federal Energy Regulatory Commission

[Docket No. IC05-545-000; FERC-545]

Commission Information Collection Activities, Proposed Collection; Comment Request; Extension

April 27, 2005.

AGENCY: Federal Energy Regulatory Commission, DOE.

ACTION: Notice of proposed information collection and request for comments.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due by June 27, 2005.

ADDRESSES: Copies of sample filings of the proposed collection of information can be obtained from the Commission's Web site (http://www.ferc.gov/docs-filings/elibrary.asp) or to the Federal Energy Regulatory Commission, Attn: Michael Miller, Office of the Executive Director, ED-1, 888 First Street, NE., Washington, DC 20426. Comments may be filed either in paper format or electronically. Those parties filing electronically do not need to make a paper filing. For paper filing, an original and 14 copies of such comments should be submitted to The Office of the Secretary, Federal Energy Regulatory Commission, 888 First Street, NE., Washington, DC 20426 and refer to Docket No. IC05-545-000.

Documents filed electronically via the Internet must be prepared in WordPerfect, MS Word, Portable Document Format, or ASCII format. To file the document, access the Commission's Web site at http://www.ferc.gov and click on “Make an e-filing”, and then follow the instructions for each screen. First time users will have to establish a user name and password. The Commission will send an automatic acknowledgement to the sender's e-mail address upon receipt of comments.

All comments may be viewed, printed or downloaded remotely via the Internet through FERC's homepage using the eLibrary link. For user assistance, contact FERCOlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-545 “Gas Pipeline Rates: Rate Change (Non-formal)” (OMB No. 1902-0154) is used by the Commission to implement the statutory provisions of sections 4, 5, 8, 10 and 16 of the Natural Gas Act (NGA) (15 U.S.C. 717c-717o, PL 75-688, 52 Stat. 822 and 830) and Title III of the Natural Gas Policy Act (15 U.S.C. 3301-3432, Pl. 95-621). A natural gas company must obtain Commission authorization for all rates and charges made, demanded or received in connection with the transportation of natural gas in interstate commerce. The Commission is authorized to investigate the rates charged by natural gas pipeline companies subject to its jurisdiction. If, after the investigation, the Commission is of the opinion that the rates are “unjust or unreasonable or unjustly discriminatory or unduly preferential,” it is authorized to determine and prescribe just and reasonable rates. The NGA also provides the Commission with a means for considering the reasonableness of rates through settlement conferences or hearings.

The data filed in rate change applications for all rates and charges made, demanded, or received in connection with the transportation of natural gas are used by the Commission to establish a basis for determining just and reasonable rates that should be charged, and the rate of return which can be earned by the regulated natural gas company. However rate regulation, combined with the obligations of major natural gas companies to serve all customers fairly and equitably, also prevents rate discrimination. Major natural gas companies and others engaged in the transportation of natural gas must file this information for ratemaking purposes and certain NGPA authorizations approval. The reporting requirements for this information collection are found in 18 CFR part 154 of the Commission's regulations. These reporting requirements are mandatory.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
152 | 12.77 | 58.38 | 113,318

Estimated cost burden to respondents is $5,9142,219. (113,318 hours/2080 hours per year times $108,558 per year average per employee). The cost per respondent is $38,909.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Linda Mitry,
Deputy Secretary.

[FR Doc. E5-2153 Filed 5-3-05; 8:45 am]

BILLING CODE 6717-01-P